DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Actions

On October 24, 2022, OFAC determined that the property and interests in property subject to U.S. jurisdiction of the following persons are blocked under the relevant sanctions authority listed below.

Individual

1. CERNA JUAREZ, Reinaldo Gregorio Lenin (a.k.a. CERNA JUAREZ, Lenin), Nicaragua; DOB 29 Sep 1947; alt. DOB 29 Sep 1946; POB Nicaragua; nationality Nicaragua; citizen Nicaragua; Gender Male; Passport A005297 (Nicaragua) (individual) [NICARAGUA].

Designated pursuant to section 1(a)(iii) of Executive Order 13851 of November 27, 2018, “Blocking Property of Certain Persons Contributing to the Situation in Nicaragua (“E.O. 13851”), for being an official of the Government of Nicaragua or having served as an official of the Government of Nicaragua at any time on or after January 10, 2007.

Entity

1. GENERAL DIRECTORATE OF MINES (Latin: DIRECCIÓN GENERAL DE MINAS), Barrio Largaespada, Hospital Bautista 1c Oeste 1c Norte, Managua, Nicaragua; Organization Type: Mining of other non-ferrous metal ores; Target Type State-Owned Enterprise [NICARAGUA] (Linked To: MANSELL CASTRILLO, Salvador).

Designated pursuant to section 1(a)(v) of E.O. 13851, for being owned or controlled by, or having acted or purported to act for or on behalf of, directly or indirectly, Salvador MANSELL CASTRILLO, a person whose property and interests in property are blocked pursuant to E.O. 13851.

Dated: October 24, 2022.
Andrea M. Gacki,
Director, Office of Foreign Assets Control, U.S. Department of the Treasury.

[FR Doc. 2022-23493 Filed 10-27-22; 8:45 am]

BILLING CODE 4810-AL-P